NUCLEAR REGULATORY COMMISSION

[Docket No. 50-390]

License No. NPF-90, Tennessee Valley Authority Withdrawal of Request for Action Under 10 CFR 2.206

Notice is hereby given that by letter dated August 5, 2003, Mr. David Lochbaum (petitioner), on behalf of the Union of Concerned Scientists (UCS), has withdrawn his May 30, 2003, request that the NRC take action with regard to Watts Bar Nuclear Plant. The petitioner had requested that the Tennessee Valley Authority (TVA), the licensee for Watts Bar, be required to provide specific information relating to possible corrosion of the reactor coolant pressure boundary at Watts Bar due to defects in the stainless steel cladding applied to the interior surface of the carbon steel reactor pressure vessel to provide corrosion resistance against the borated water used as reactor coolant. The petitioner had also requested that the NRC (a) provide UCS with copies of all correspondence sent to TVA regarding this petition and the subject cladding defects at Watts Bar, (b) provide UCS with advance notice of all NRC public meetings with TVA regarding this petition and the subject cladding defects, (c) provide UCS with an opportunity to participate in all relevant phone calls between NRC staff and TVA regarding this petition and the subject cladding defects at Watts Bar, and (d) provide UCS with copies of all correspondence sent to Members of Congress and/or industry organizations (e.g., the Nuclear Energy Institute, the Electric Power Research Institute, the Institute for Nuclear Power Operations).

As the basis for this withdrawal, the petitioner states that the UCS has reviewed the response provided by the licensee and finds it fully responsive so that the Demand for Information is no longer necessary.

Notice of the receipt of the request for action was published in the Federal Register on July 9, 2003 (68 FR 41022). Copies of the licensee's response and the withdrawal letter are available for inspection at the Commission's Public Document Room (PDR) at One White Flint North, Public File Area O1 F21, 11555 Rockville Pike (first floor), Rockville, Maryland. Publicly available records will be accessible from the Agencywide Documents Access and Management System (ADAMS) Public Electronic Reading Room on the Internet at the NRC Web site, http://www.nrc.gov/reading-rm/adams.html. Persons who do not have access to ADAMS or who encounter problems in accessing the documents located in ADAMS should contact the NRC PDR reference staff by telephone at 1-800-397-4209 or 301-415-4737, or by e-mail to pdr@nrc.gov.

Dated at Rockville, Maryland, this 28th day of August 2003.
For the Nuclear Regulatory Commission.
R. William Borchardt,
Office of Nuclear Reactor Regulation.

[FR Doc. 03-22610 Filed 9-4-03; 8:45 am]

BILLING CODE 7590-01-P